DEPARTMENT OF HEALTH AND HUMAN SERVICES

National Institutes of Health

National Institute of Mental Health; Amended Notice of Meeting

Notice is hereby given of a change in the telephone Access Code for the meeting of the Interagency Autism Coordinating Committee (IACC) Subcommittee on Safety on January 12, 2011, 11 a.m. to 1 p.m. This meeting is a conference call only. The notice was published in the Federal Register on December 29, 2010, 75 FR 82034.

The Conference Call Access Code was missing one number and should be: Dial 888-456-0356, Access Code: 1427016. The Conference Call meeting is open to the public. The meeting will be held at the same time.

Dated: January 4, 2011.
Jennifer S. Spaeth,
Director, Office of Federal Advisory Committee Policy.

[FR Doc. 2011-384 Filed 1-10-11; 8:45 am]

BILLING CODE 4140-01-P